DEPARTMENT OF HEALTH AND HUMAN SERVICES

Centers for Medicare & Medicaid Services

[Document Identifier: CMS 10174, CMS-460, and CMS-10097]

Agency Information Collection Activities: Proposed Collection; Comment Request

AGENCY: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension Collection; Title of Information Collection: Collection of Prescription Drug Data from MA-PD, PDP and Fallout Plans/Sponsors for Medicare Part D Payments; Use: The Medicare Prescription Drug Improvement and Modernization Act (MMA) requires Medicare payment to Medicare Advantage (MA) organizations, prescription drug plans (PDP) sponsors, Fallbacks, and other plan sponsors offering coverage of outpatient prescription drugs under the new Medicare Part D benefit. The MMA provided four summary mechanisms for paying plans: direct subsidies, subsidized coverage for qualifying low-income individuals, Federal reinsurance subsidies, and risk corridor payments. In order to make payment in accordance with these provisions, CMS has determined it needs to collect a limited set of data elements for 100 percent of prescription drug claims or events from plans offering Part D coverage. The transmission of the statutorily required data will be in an electronic format. The information users will be Pharmacy Benefit Managers (PBM), third party administrators and pharmacies, and the PDPs, MA-PDs, Fallbacks, and other plan sponsors that offer coverage of outpatient prescription drugs under the new Medicare Part D benefit to Medicare beneficiaries. The statutorily required data will be used primarily for payment, claims validation, quality monitoring, and program integrity and oversight; Form Number: CMS-10174 (OMB#: 0938-0982); Frequency: Monthly, Quarterly and Annually; Affected Public: Business or other for-profit, and not-for-profit institutions; Number of Respondents: 455; Total Annual Responses: 2,418,000,000; Total Annual Hours: 4,836.

2. Type of Information Collection Request: Extension of a currently approved collection; Title of Information Collection: Medicare Participating Physician or Supplier Agreement; Form No.: CMS-460 (OMB# 0938-0373); Use: Form number CMS-460 is completed by nonparticipating physicians and suppliers if they choose to participate in Medicare Part B. By signing the agreement, the physician or supplier agrees to take assignment on all Medicare claims. To take assignment means to accept the Medicare allowed amount as payment in full for the services they furnish and to charge the beneficiary no more than the deductible and coinsurance for the covered service. In exchange for signing the agreement, the physician or supplier receives a significant number of program benefits not available to nonparticipating suppliers. The information associated with this collection is needed to identify the recipients of the program benefits; Frequency: Reporting, Other—when starting a new business; Affected Public: Business or other for-profit, Individuals or Households; Number of Respondents: 6000; Total Annual Responses: 6000; Total Annual Hours: 1500.

3. Type of Information Collection Request: Extension of a currently approved collection; Title of Information Collection: Medicare Contractor Provider Satisfaction Survey (MCPSS); Form No.: CMS-10097 (OMB# 0938-0915); Use: The Centers for Medicare & Medicaid Services will obtain feedback from over 30,000 Medicare providers via a survey about satisfaction, attitudes and perceptions regarding the services provided by Medicare Fee-for-Service (FFS) Carriers, Fiscal Intermediaries, Durable Medical Equipment Suppliers, and Regional Home Health Intermediaries and Medicare Administrative Contractors. The survey focuses on basic business functions provided by the Medicare Contractors such as inquiries, provider communications, claims processing, appeals, provider enrollment, medical review and provider audit & reimbursement. Providers will receive a notice requesting they use a specially constructed web site to respond to a set of questions customized for their contractor's responsibilities. The survey will be conducted yearly and annual reports of the survey results will be available via an online reporting system for use by CMS, Medicare Contractors, and the general public; Frequency: Reporting—Annually; Affected Public: Business or other for-profit, not-for-profit institutions; Number of Respondents: 20,514; Total Annual Responses: 20,514; Total Annual Hours: 7209.

To obtain copies of the supporting statement and any related forms for the proposed paperwork collections referenced above, access CMS' Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received at the address below, no later than 5 p.m. on April 4, 2006. CMS, Office of Strategic Operations and Regulatory Affairs, Division of Regulations Development—C, Attention: Bonnie L. Harkless, Room C4-26-05, 7500 Security Boulevard, Baltimore, Maryland 21244-1850.

Dated: January 25, 2006.
Michelle Shortt,
Director, Regulations Development Group, Office of Strategic Operations and Regulatory Affairs.

[FR Doc. 06-952 Filed 2-2-06; 8:45 am]

BILLING CODE 4120-01-P